DEPARTMENT OF ENERGY

Federal Energy Regulatory Commission

Combined Notice of Filings #1

Take notice that the Commission received the following electric corporate filings:

Docket Numbers: EC16-11-000.

Applicants: Greeley Energy Facility, LLC.

Description: Supplement to October 13, 2015 Application for Authorization Under Section 203 of the Federal Power Act and Request for Expedited Action of Greeley Energy Facility, LLC.

Filed Date: 1/4/16.

Accession Number: 20160104-5540.

Comments Due: 5 p.m. ET 1/22/16.

Take notice that the Commission received the following electric rate filings:

Docket Numbers: ER12-161-014; ER12-645-016; ER14-25-011.

Applicants: Bishop Hill Energy LLC, California Ridge Wind Energy LLC, Prairie Breeze Wind Energy LLC.

Description: Notice of Change in Status and Request for Confidential Treatment of Bishop Hill Energy LLC, et al.

Filed Date: 1/14/16.

Accession Number: 20160114-5434.

Comments Due: 5 p.m. ET 2/4/16.

Docket Numbers: ER12-2068-010; ER15-1471-005; ER10-2460-010; ER10-2461-010; ER12-2159-006; ER12-682-011; ER10-2463-010; ER15-1672-004; ER11-2201-014; ER10-2464-007; ER10-1821-011; ER13-1139-013; ER13-1585-007; ER12-2205-007; ER10-2465-006; ER11-2657-007; ER13-17-008; ER14-2630-006; ER12-919-005; ER12-1311-010; ER10-2466-011; ER11-4029-010.

Applicants: Blue Sky East, LLC, Blue Sky West, LLC, Canandaigua Power Partners, LLC, Canandaigua Power Partners II, LLC, Canadian Hills Wind, LLC, Erie Wind, LLC, Evergreen Wind Power, LLC, Evergreen Wind Power II, LLC, Evergreen Wind Power III, LLC, First Wind Energy Marketing, LLC, Goshen Phase II LLC, Imperial Valley Solar 1, LLC, Longfellow Wind, LLC, Meadow Creek Project Company LLC, Milford Wind Corridor Phase I, LLC, Milford Wind Corridor Phase II, LLC, Niagara Wind Power, LLC, Regulus Solar, LLC, Rockland Wind Farm LLC, Stetson Holdings, LLC, Stetson Wind II, LLC, Vermont Wind, LLC.

Description: Notice of Change in Status of Blue Sky East, LLC, et al.

Filed Date: 1/14/16.

Accession Number: 20160114-5449.

Comments Due: 5 p.m. ET 2/4/16.

Docket Numbers: ER15-2483-002.

Applicants: Emerald City Renewables LLC.

Description: Notification of Non-Material Change in Status of Emerald City Renewables LLC.

Filed Date: 1/15/16.

Accession Number: 20160115-5157.

Comments Due: 5 p.m. ET 2/5/16.

Docket Numbers: ER16-91-001.

Applicants: Blythe Solar 110, LLC.

Description: Amendment to December 18, 2015 Notification of Change in Status of Blythe Solar 110, LLC.

Filed Date: 1/14/16.

Accession Number: 20160114-5447.

Comments Due: 5 p.m. ET 2/4/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 15, 2016.
Nathaniel J. Davis, Sr.,
Deputy Secretary.

[FR Doc. 2016-01231 Filed 1-21-16; 8:45 am]

BILLING CODE 6717-01-P